DEPARTMENT OF THE INTERIOR

Bureau of Land Management

[13X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the survey of a portion of the Ninth Standard Parallel North (south boundary) of Township 37 North, Range 10 East, and the south, west and north boundaries, the subdivisional lines and the subdivision of certain sections, Township 38 North, Range 10 East, accepted August 1, 2013, and officially filed August 6, 2013, for Group 1114, Arizona.

This plat was prepared at the request of the Bureau of Indian Affairs.

The plat representing the dependent resurvey of portions of the south and east boundaries and a portion of the subdivisional lines and survey of the subdivision of certain sections and metes-and-bounds surveys of portions of the administrative boundary of the Davis-Monthan Air Force Base, Township 14 South, Range 14 East, accepted August 7, 2013, and officially filed August 9, 2013, for Group 1111, Arizona.

This plat was prepared at the request of the General Services Administration.

The plat representing the dependent resurvey of portions of the east and north boundaries and a portion of the subdivisional lines and survey of the subdivision of certain sections and metes-and-bounds surveys of portions of the administrative boundary of the Davis-Monthan Air Force Base, Township 15 South, Range 14 East, accepted August 7, 2013, and officially filed August 9, 2013, for Group 1111, Arizona.

This plat was prepared at the request of the General Services Administration.

The plat representing the dependent resurvey of portions of the subdivisional lines and survey of the subdivision of section 30 and metes-and-bounds surveys of portions of the administrative boundary of the Davis-Monthan Air Force Base, Township 14 South, Range 15 East, accepted August 7, 2013, and officially filed August 9, 2013, for Group 1111, Arizona.

This plat was prepared at the request of the General Services Administration.

The plat representing the dependent resurvey of a portion of the north boundary and a portion of the subdivisional lines and survey of the subdivision of certain sections and metes-and-bounds surveys of portions of the administrative boundary of the Davis-Monthan Air Force Base, Township 15 South, Range 15 East, accepted August 7, 2013, and officially filed August 9, 2013, for Group 1111, Arizona.

This plat was prepared at the request of the General Services Administration.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2013-21589 Filed 9-4-13; 8:45 am]

BILLING CODE 4310-32-P